ENVIRONMENTAL PROTECTION AGENCY

[ER-FRL-6630-3]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167.

An explanation of the ratings assigned to draft environmental impact statements (EISs) was published in FR dated April 12, 2002 (67 FR 17992).

Draft EISs

ERP No. D-BLM-L65399-OR Rating EC1, Kelsey Whisky Landscape Management Planning Area, Implementation, Associated Medford District Resource Management Plan Amendments, Josephine and Jackson Counties, OR.

Summary: EPA expressed environmental concerns that the project may adversely affect two listed species under the Endangered Species Act. EPA requested that the conclusions from the US Fish and Wildlife Service Biological Opinion be included in the final EIS and referenced in the Record of Decision.

ERP No. DS-NPS-K61121-NV Rating EC2, Great Basin National Park (GRBA) Amendment to the General Management Plan (GMP), Proposal to Construct a Visitor Learning Center on an 80-acre Parcel of Land north of the Town of Baker, White Pine County, NV.

Summary: expressed environmental concerns about a lack of pollution prevention measures in the project's construction and operation and that there was no discussion on the project's potential water quality impacts, mitigation to protect water quality, or conformity with the Clean Water Act.

Dated: June 11, 2002.
Joseph C. Montgomery,
Director, NEPA Compliance Division, Office of Federal Activities.

[FR Doc. 02-15094 Filed 6-13-02; 8:45 am]

BILLING CODE 6560-50-P